DEPARTMENT OF THE INTERIOR

Fish and Wildlife Service

50 CFR Part 17

[4500090022]

Endangered and Threatened Wildlife and Plants; Twelve Species Not Warranted for Listing as Endangered or Threatened Species

AGENCY: Fish and Wildlife Service, Interior.

ACTION: Notice of findings.

SUMMARY: We, the U.S. Fish and Wildlife Service (Service), announce findings that 12 species are not warranted for listing as endangered or threatened species under the Endangered Species Act of 1973, as amended (Act). After a thorough review of the best available scientific and commercial information, we find that it is not warranted at this time to list the Berry Cave salamander, cobblestone tiger beetle, Florida clamshell orchid, longhead darter, Ocala vetch, Panamint alligator lizard, Peaks of Otter salamander, redlips darter, Scott riffle beetle, southern hognose snake, yellow anise tree, and yellow-cedar. However, we ask the public to submit to us at any time any new information relevant to the status of any of the species mentioned above or their habitats.

DATES: The findings in this document were made on October 7, 2019.

ADDRESSES: Detailed descriptions of the basis for each of these findings are available on the internet at http://www.regulations.gov under the following docket numbers:

Species | Docket No.
Berry Cave salamander | FWS-R4-ES-2019-0048
Cobblestone tiger beetle | FWS-R5-ES-2019-0074
Florida clamshell orchid | FWS-R4-ES-2019-0075
Longhead darter | FWS-R5-ES-2019-0076
Ocala vetch | FWS-R4-ES-2019-0077
Panamint alligator lizard | FWS-R8-ES-2015-0105
Peaks of Otter salamander | FWS-R5-ES-2015-0106
Redlips darter | FWS-R4-ES-2019-0078
Scott riffle beetle | FWS-R6-ES-2015-0114
Southern hognose snake | FWS-R4-ES-2015-0063
Yellow anise tree | FWS-R4-ES-2019-0079
Yellow-cedar | FWS-R7-ES-2015-0025

Supporting information used to prepare these findings is available for public inspection, by appointment, during normal business hours, by contacting the appropriate person, as specified under FOR FURTHER INFORMATION CONTACT. Please submit any new information, materials, comments, or questions concerning these findings to the appropriate person, as specified under FOR FURTHER INFORMATION CONTACT.

FOR FURTHER INFORMATION CONTACT:

Species | Contact information
Berry Cave salamander | Lee Andrews, Field Supervisor, Tennessee and Kentucky Ecological Services Field Offices, 502-695-0468, ext. 108.
Cobblestone tiger beetle | Tom Chapman, Supervisor, New England Field Office, 603-223-2541.
Florida clamshell orchid | Roxanna Hinzman, Field Supervisor, South Florida Field Office, 772-469-4310.
Longhead darter | John Schmidt, Project Leader, West Virginia Field Office, 304-636-6586.
Ocala vetch | Jay Herrington, Field Supervisor, North Florida Field Office, 904-731-3191.
Panamint alligator lizard | Gjon Hazard, Biologist, Carlsbad Fish and Wildlife Office, 760-431-9440, ext. 287.
Peaks of Otter salamander | Cindy Schulz, Supervisor, Virginia Field Office, 804-824-2426.
Redlips darter | Lee Andrews, Field Supervisor, Tennessee and Kentucky Ecological Services Field Offices, 502-695-0468, ext. 108.
Scott riffle beetle | Gibran Suleiman, Biologist, Kansas Ecological Services Field Office, 785-539-3474, ext. 114.
Southern hognose snake | Tom McCoy, Field Supervisor, South Carolina Ecological Service Field Office, 843-727-4707, ext. 227.
Yellow anise tree | Jay Herrington, Field Supervisor, North Florida Field Office, 904-731-3191.
Yellow-cedar | Stewart Cogswell, Field Supervisor, Anchorage Field Office, 907-271-2787.

If you use a telecommunications device for the deaf (TDD), please call the Federal Relay Service at 800-877-8339.

SUPPLEMENTARY INFORMATION:

Background

Under section 4(b)(3)(B) of the Act (16 U.S.C. 1531 et seq.), we are required to make a finding whether or not a petitioned action is warranted within 12 months after receiving any petition for which we have determined contained substantial scientific or commercial information indicating that the petitioned action may be warranted (“12-month finding”). We must make a finding that the petitioned action is: (1) Not warranted; (2) warranted; or (3) warranted but precluded. “Warranted but precluded” means that (a) the petitioned action is warranted, but the immediate proposal of a regulation implementing the petitioned action is precluded by other pending proposals to determine whether species are endangered or threatened species, and (b) expeditious progress is being made to add qualified species to the Lists of Endangered and Threatened Wildlife and Plants (Lists) and to remove from the Lists species for which the protections of the Act are no longer necessary. Section 4(b)(3)(C) of the Act requires that we treat a petition for which the requested action is found to be warranted but precluded as though resubmitted on the date of such finding, that is, requiring that a subsequent finding be made within 12 months of that date. We must publish these 12-month findings in the Federal Register.

Summary of Information Pertaining to the Five Factors

Section 4 of the Act (16 U.S.C. 1533) and the implementing regulations at part 424 of title 50 of the Code of Federal Regulations (50 CFR part 424) set forth procedures for adding species to, removing species from, or reclassifying species on the Lists. The Act defines “endangered species” as any species that is in danger of extinction throughout all or a significant portion of its range (16 U.S.C. 1532(6)), and “threatened species” as any species that is likely to become an endangered species within the foreseeable future throughout all or a significant portion of its range (16 U.S.C. 1532(20)). Under section 4(a)(1) of the Act, a species may be determined to be an endangered species or a threatened species because of any of the following five factors:

(A) The present or threatened destruction, modification, or curtailment of its habitat or range;

(B) Overutilization for commercial, recreational, scientific, or educational purposes;

(C) Disease or predation;

(D) The inadequacy of existing regulatory mechanisms; or

(E) Other natural or manmade factors affecting its continued existence.

In considering whether a species may meet the definition of an endangered species or a threatened species because of any of the five factors, we must look beyond the mere exposure of the species to the stressor to determine whether the species responds to the stressor in a way that causes actual impacts to the species. If there is exposure to a stressor, but no response, or only a positive response, that stressor does not cause a species to meet the definition of an endangered species or a threatened species. If there is exposure and the species responds negatively, we determine whether that stressor drives or contributes to the risk of extinction of the species such that the species warrants listing as an endangered or threatened species. The mere identification of stressors that could affect a species negatively is not sufficient to compel a finding that listing is or remains warranted. For a species to be listed or remain listed, we require evidence that these stressors are operative threats to the species and its habitat, either singly or in combination, to the point that the species meets the definition of an endangered or a threatened species under the Act.

In conducting our evaluation of the five factors provided in section 4(a)(1) of the Act to determine whether the Berry Cave salamander (Gyrinophilus gulolineatus), cobblestone tiger beetle (Cicindela marginipennis), Prosthechea cochleata var. triandra (Florida clamshell orchid), longhead darter (Percina macrocephala), Vicia ocalensis (Ocala vetch), Panamint alligator lizard (Elgaria panamintina), Peaks of Otter salamander (Plethodon hubrichti), redlips darter (Etheostoma maydeni), Scott riffle beetle (Optioservus phaeus), southern hognose snake (Heterodon simus), Illicium parviflorum (yellow anise tree), and Callitropsis nootkatensis (yellow-cedar) meet the definition of “endangered species” or “threatened species,” we considered and thoroughly evaluated the best scientific and commercial information available regarding the past, present, and future stressors and threats. We reviewed the petitions, information available in our files, and other available published and unpublished information. These evaluations may include information from recognized experts; Federal, State, and tribal governments; academic institutions; foreign governments; private entities; and other members of the public.

The species assessments for the Berry Cave salamander, cobblestone tiger beetle, Florida clamshell orchid, longhead darter, Ocala vetch, Panamint alligator lizard, Peaks of Otter salamander, redlips darter, Scott riffle beetle, southern hognose snake, yellow anise tree, and yellow-cedar contain more detailed biological information, a thorough analysis of the listing factors, and an explanation of why we determined that these species do not meet the definition of an endangered species or a threatened species. This supporting information can be found on the internet at http://www.regulations.gov under the appropriate docket number (see ADDRESSES, above). The following are informational summaries for each of the findings in this document.

Berry Cave Salamander

Previous Federal Actions

On January 22, 2003, we received a petition from Dr. John Nolt requesting that the Berry Cave salamander be listed as an endangered species under the Act. On March 18, 2010, we published a 90-day finding in the Federal Register (75 FR 13068), concluding that the petition presented substantial information indicating that listing the Berry Cave salamander may be warranted. On March 22, 2011, we published a 12-month finding in the Federal Register (76 FR 15919) in which we stated that listing the Berry Cave salamander as endangered or threatened was warranted primarily due to habitat modification. However, listing was precluded at that time by higher priority actions, and the species was added to the candidate species list. From 2011 through 2016, we addressed the status of the Berry Cave salamander annually in our candidate notice of review, with the determination that listing was warranted, but precluded (see 76 FR 66370, October 26, 2011; 77 FR 69994, November 21, 2012; 78 FR 70104, November 22, 2013; 79 FR 72450, December 5, 2014; 80 FR 80584, December 24, 2015; 81 FR 87246, December 2, 2016).

Summary of Finding

The Berry Cave salamander is a member of the Tennessee cave salamander species complex. It is differentiated from other species by a distinctive dark spot or stripe on the anterior portion of the throat, a wider head, and flatter snout. The species is endemic to eastern Tennessee, where it was known historically from ten caves. The current range of the species is similar to its historical range, and recent surveys indicate the species currently occurs in nine caves.

Water quality and availability are fundamental to the survival of the Berry Cave salamander. The underground streams inhabited by Berry Cave salamanders are dynamic and vary in depth and velocity depending on local precipitation. The Berry Cave salamander is typically found resting on the bottom of pools and underneath cover, such as rocks, logs, and other organic debris either in low-velocity pools with mud substrate or in pools with gravel or cobble substrate.

We have carefully assessed the best scientific and commercial information available regarding the past, present, and future threats to the Berry Cave salamander, and we evaluated all relevant factors under the five listing factors, including any regulatory mechanisms and conservation measures addressing these stressors. The primary stressors affecting the species' biological status include decreased substrate and water quality. Since our previous 12-month findings, additional surveys and analysis of those data have provided a better understanding of the Berry Cave salamander. The surveys provided new information regarding the species' range, population dynamics and life history. We incorporated this new information into our status review and found that despite impacts from stressors, the species continues to persist across most of its historical range and has been found in additional caves outside its known historical range. Although we predict some continued impacts from these stressors in the foreseeable future, we anticipate the species will remain viable with resilient populations distributed within its representative physiographic province.

Therefore, we find that listing the Berry Cave salamander as an endangered species or threatened species under the Act is not warranted. A detailed discussion of the basis for this finding can be found in the Berry Cave salamander species assessment and other supporting documents (see ADDRESSES, above).

Cobblestone Tiger Beetle

Previous Federal Actions

On April 20, 2010, we received a petition from the Center for Biological Diversity, Alabama Rivers Alliance, Clinch Coalition, Dogwood Alliance, Gulf Restoration Network, Tennessee Forests Council, and West Virginia Highlands Conservancy to list 404 aquatic, riparian, and wetland species, including the cobblestone tiger beetle, as endangered or threatened species under the Act. On September 27, 2011, we published a 90-day finding in the Federal Register (76 FR 59836), concluding that the petition presented substantial information indicating that listing the cobblestone tiger beetle may be warranted. This notice constitutes our 12-month finding on the April 20, 2010, petition to list the cobblestone tiger beetle under the Act.

Summary of Finding

Cobblestone tiger beetles are approximately 11 to 14 millimeters (0.4 to 0.6 inches) in length and have large mandibles used to capture prey. Their hardened forewings are dull olive with a cream-colored border. When the forewings are spread, their bright red-orange abdomens are exposed.

The species occurs in several States throughout the eastern United States and into New Brunswick, Canada, and lives in riverine or shoreline habitats with cobble substrates. While there is no overall population estimate of the cobblestone tiger beetle, the species likely functions within a metapopulation structure. Its cobble bar habitat is found in hydrological regimes that undergo periods of intense scouring or flooding that create, maintain, and occasionally destroy the habitat. Vegetation is also an important component of the beetle's habitat, although plant species composition, structure, and density parameters will vary throughout the species' range.

We have carefully assessed the best scientific and commercial information available regarding the past, present, and future threats to the cobblestone tiger beetle, and we evaluated all relevant factors under the five listing factors, including any regulatory mechanisms and conservation measures addressing these stressors. The primary stressors affecting the species' biological status include those related to changes in the natural hydrological regime and the effects of climate change, including increased temperatures, flooding, and storms. Our review indicates that despite these stressors, the continued persistence of occupied areas across the species' range provides sufficient resiliency, redundancy, and representation to sustain the species beyond the near term. Despite some reduction in its range, there is currently representation across the majority of the species' historical range. Where extant, the species has sufficient resiliency and redundancy to withstand environmental or demographic stochastic events as well as catastrophic events. Therefore, the risk of extinction is currently extremely low. In the future, the species is expected to retain its resiliency, redundancy, and representation to a sufficient degree such that the species will not be in danger of extinction in the foreseeable future.

Therefore, we find that listing the cobblestone tiger beetle as an endangered species or threatened species under the Act is not warranted. A detailed discussion of the basis for this finding can be found in the cobblestone tiger beetle species assessment and other supporting documents (see ADDRESSES, above).

Florida Clamshell Orchid

Previous Federal Actions

On April 20, 2010, we received a petition from the Center for Biological Diversity, Alabama Rivers Alliance, Clinch Coalition, Dogwood Alliance, Gulf Restoration Network, Tennessee Forests Council, and West Virginia Highlands Conservancy to list 404 aquatic, riparian, and wetland species, including the Florida clamshell orchid, as endangered or threatened species under the Act. On September 27, 2011, we published a 90-day finding in the Federal Register (76 FR 59836), concluding that the petition presented substantial information indicating that listing the Florida clamshell orchid may be warranted. This notice constitutes our 12-month finding on the April 20, 2010, petition to list the Florida clamshell orchid under the Act.

Summary of Finding

The Florida clamshell orchid is a showy, flowering plant endemic to southern Florida. The species grows with the presence of a symbiotic fungus attached to tree limbs or snags. The orchid is found high in the tree canopy of a variety of south Florida habitat types: Pond apple slough, strand swamp, dome swamp, rockland hammock, coastal buttonwood hammock, and mesic (moderately wet) and hydric (wet) prairie hammock.

We have carefully assessed the best scientific and commercial information available regarding the past, present, and future threats to the Florida clamshell orchid, and we evaluated all relevant factors under the five listing factors, including any regulatory mechanisms and conservation measures addressing these stressors. The primary stressors affecting the species' biological status include habitat modification and destruction due to sea level rise, saltwater intrusion, and increasing hurricane storm surge.

Despite these past and ongoing stressors, the Florida clamshell orchid remains extant in 15 of its 18 historical populations, which provides redundancy for the species. In addition, these populations are highly resilient because they exist in favorable habitat conditions with host trees and adequate hydrology and moisture regimes. In addition, all populations (together extending approximately 809,000 hectares (2,000,000 acres)) are on public lands managed for conservation. Among numerous conservation efforts, the species is protected by the State of Florida under the Regulated Plant Index (which defines the categories of regulated plants in the state and lists the species in each category) and is the subject of successful propagation and reintroduction programs on the Florida Panther National Wildlife Refuge. In the foreseeable future, we anticipate sea level rise will reduce the resiliency of some populations and overall species redundancy; however, we predict inland populations to remain protected and resilient such that the species will not become endangered within the foreseeable future.

Therefore, we find that listing the Florida clamshell orchid as an endangered species or threatened species under the Act is not warranted. A detailed discussion of the basis for this finding can be found in the Florida clamshell orchid species assessment and other supporting documents (see ADDRESSES, above).

Longhead Darter

Previous Federal Actions

On April 20, 2010, we received a petition from the Center for Biological Diversity, Alabama Rivers Alliance, Clinch Coalition, Dogwood Alliance, Gulf Restoration Network, Tennessee Forests Council, and West Virginia Highlands Conservancy to list 404 aquatic, riparian, and wetland species, including the longhead darter, as endangered or threatened species under the Act. On September 27, 2011, we published a 90-day finding in the Federal Register (76 FR 59836), concluding that the petition presented substantial information indicating that listing the longhead darter may be warranted. This notice constitutes our 12-month finding on the April 20, 2010, petition to list the longhead darter under the Act.

Summary of Finding

The longhead darter is a small freshwater fish, approximately 10 centimeters (4 inches) long, with a sharply pointed snout; brown, tan, olive, or straw-colored back and upper sides; a white or light yellow lower and underside; and a black, blotchy lateral line. The longhead darter is found in six states throughout the eastern United States. Rivers within the longhead darter's range are ecologically diverse. River gradients range from low to high, with variable substrate (e.g., rocky, sandy with cobble, sandy with glacial till) and variable alkalinity. Five of 10 historical populations are extant; the species is relatively common in some of these populations, and the distribution is expanding in others. Of the remaining five historical populations, three are extirpated, and the statuses of two are unknown. However, there are ongoing reintroduction efforts in central Ohio, and fish have already been reintroduced in one extirpated population.

We have carefully assessed the best scientific and commercial information available regarding the past, present, and future threats to the longhead darter, and we evaluated all relevant factors under the five listing factors, including any regulatory mechanisms and conservation measures addressing these stressors. The primary stressors affecting the species' biological status include sedimentation, poor water quality, habitat fragmentation, and, to a lesser extent, effects of invasive species and effects of climate change, including increases in temperature, extreme precipitation, and drought. Despite these stressors and some level of decline in abundance, including the loss of at least three of its historical populations, the species continues to maintain resilient populations over time. Although we predict some continued impacts from these stressors in the foreseeable future, we anticipate this species will continue to have resilient populations that are distributed widely throughout its range.

Therefore, we find that listing the longhead darter as an endangered species or threatened species under the Act is not warranted. A detailed discussion of the basis for this finding can be found in the longhead darter species assessment and other supporting documents (see ADDRESSES, above).

Ocala Vetch

Previous Federal Actions

On April 20, 2010, we received a petition from the Center for Biological Diversity, Alabama Rivers Alliance, Clinch Coalition, Dogwood Alliance, Gulf Restoration Network, Tennessee Forests Council, and West Virginia Highlands Conservancy to list 404 aquatic, riparian, and wetland species, including the Ocala vetch, as endangered or threatened species under the Act. On September 27, 2011, we published a 90-day finding in the Federal Register (76 FR 59836), concluding that the petition presented substantial information indicating that listing the Ocala vetch may be warranted. This notice constitutes our 12-month finding on the April 20, 2010, petition to list the Ocala vetch under the Act.

Summary of Finding

The Ocala vetch is an herbaceous, relatively robust perennial vine found in open marshy, shoreline habitats in Marion, Lake, and Volusia Counties in Florida. Four of the five areas where Ocala vetch occur are along Alexander Springs, Juniper Creek, Salt Springs, and Silver Glen Springs within Ocala National Forest, and the fifth area is along Lake Dexter within Lake Woodruff National Wildlife Refuge. The Ocala vetch has nearly hairless stems attaining lengths of 1.2 meters (3.9 feet) or more. The flowers are 10 to 12 millimeters (0.4 to 0.5 inches) long, with lavender blue to white petals and a faintly striped banner petal. As with most plants, the Ocala vetch requires sunlight, carbon dioxide, water, soil, and essential nutrients to survive and grow. It is a dicot flowering plant that requires insect pollination for seed production. Adult plants produce flowers from March to June.

We have carefully assessed the best scientific and commercial information available regarding the past, present, and future threats to the Ocala vetch, and we evaluated all relevant factors under the five listing factors, including any regulatory mechanisms and conservation measures addressing these stressors. The primary stressor we identified in our analysis was sea level rise, which will likely have an impact on the future condition of the species. Historically, the species was known from three locations, but two additional populations were discovered in 2018, expanding its current number of populations to five. In the future, we anticipate sea level rise will result in inundation of one of the species' five populations. Despite this primary stressor, the remaining populations of the Ocala vetch will continue to maintain adequate resiliency, and provide redundancy and representation for the species to remain viable in the foreseeable future.

Therefore, we find that listing the Ocala vetch as an endangered species or threatened species under the Act is not warranted. A detailed discussion of the basis for this finding can be found in the Ocala vetch species assessment and other supporting documents (see ADDRESSES, above).

Panamint Alligator Lizard

Previous Federal Actions

On July 11, 2012, we received a petition from the Center for Biological Diversity to list 53 species of reptiles and amphibians, including the Panamint alligator lizard, as endangered or threatened species under the Act. On September 18, 2015, we published a 90-day finding in the Federal Register (80 FR 56423), concluding that the petition presented substantial information indicating that listing the Panamint alligator lizard may be warranted. This notice constitutes our 12-month finding on the July 11, 2012, petition to list the Panamint alligator lizard under the Act.

Summary of Finding

The Panamint alligator lizard is a secretive species known only from a remote region in eastern California. Individuals can grow to be about 15 centimeters (6 inches) long from snout to vent, but have a tail that may extend up to twice that length. Dorsally, they range in color from beige to brown and have seven to eight darker cross bands; ventrally, they are whitish with gray splotches. The basic life cycle of the Panamint alligator lizard is typical of most oviparous (egg-laying) lizards: Eggs hatch to become nonbreeding juveniles, which then grow and mature to become breeding adults. Specifically, Panamint alligator lizards are known from six desert mountain ranges in Mono and Inyo Counties, California (roughly north to south): White, Inyo, Nelson, Coso, Argus, and Panamint. There is little information to suggest the species' historical range differs from its current range. Panamint alligator lizards are typically associated with the region's few riparian areas, but the species also occurs in the more plentiful talus (sloping) areas.

We have carefully assessed the best scientific and commercial information available regarding the past, present, and future threats to the Panamint alligator lizard, and we evaluated all relevant factors under the five listing factors, including any regulatory mechanisms and conservation measures addressing these stressors. The primary stressors affecting the species' biological status include reduced surface water, degraded riparian vegetation, impacts to refugia, crushing and other direct mortality, collecting, disease, predation, barriers to dispersal, small population effects, and the effects of climate change, including drought. While these stressors are likely impacting individuals, we do not have evidence of population-level impacts. In addition, while stressors caused by effects of climate change could occur over time, we do not expect them to be severe enough to impact the overall viability of the species. Lastly, ongoing Federal land management actions and existing regulatory mechanisms, which protect lizards and their habitat in at least 98.7 percent of the species' range, will continue to ameliorate threats into the foreseeable future.

Therefore, we find that listing the Panamint alligator lizard as an endangered species or threatened species under the Act is not warranted. A detailed discussion of the basis for this finding can be found in the Panamint alligator lizard species assessment and other supporting documents (see ADDRESSES, above).

Peaks of Otter Salamander

Previous Federal Actions

On July 11, 2012, we received a petition from the Center for Biological Diversity to list 53 species of reptiles and amphibians, including the Peaks of Otter salamander, as endangered or threatened species under the Act. On September 18, 2015, we published a 90-day finding in the Federal Register (80 FR 56423), concluding that the petition presented substantial information indicating that listing the Peaks of Otter salamander may be warranted. This notice constitutes our 12-month finding on the July 11, 2012, petition to list the Peaks of Otter salamander under the Act.

Summary of Finding

The Peaks of Otter salamander is a narrow-ranging, endemic, terrestrial salamander. It occurs in approximately 116 square kilometers (45 square miles) of mature forested habitats of the mountaintops and high-elevation areas between Flat Top Mountain and White Oak Ridge in Bedford and Botetourt Counties, Virginia. The species' habitat is almost entirely restricted to the Glenwood Ranger District of the George Washington and Jefferson National Forests and primarily between mile 77 and 84 of the National Park Service's Blue Ridge Parkway, with some limited occurrences on adjacent private lands. While there is no overall population estimate for the Peaks of Otter salamander, the best available information indicates the species historically and currently functions as a single population; we subdivided this population into 20 analytical units to assess the species' current and future condition.

We have carefully assessed the best scientific and commercial information available regarding the past, present, and future threats to the Peak of Otter salamander, and we evaluated all relevant factors under the five listing factors, including any regulatory mechanisms and conservation measures addressing these stressors. The primary stressors affecting the species' biological status include activities (primarily timber harvest) that disrupt or remove the forest canopy, understory vegetation, and cover objects; competition with red-backed salamanders; and changing climate patterns of increasing temperatures and changes in precipitation patterns. Except for one of its 20 analytical units, the Peaks of Otter salamander continues to occupy most of its known historical range. The species is well distributed throughout its range, across a variety of elevations and habitat types, and it appears that there are some local adaptations, which may be important to the species' ability to adapt to future changes in environmental conditions. The species currently has good representation, redundancy, and resiliency.

In the foreseeable future, a number of potential threats could negatively affect demographics or habitat, including habitat degradation or loss, competition, hybridization, and disease, all of which may be exacerbated by effects of changing climatic conditions. Our future predictions of resiliency indicate that the Peaks of Otter salamander is not likely to be significantly affected by the modelled threats and its analytical units are not particularly vulnerable to extirpation from stochastic events. Because conservation measures that protect the species and its habitat are currently being implemented and have been shown to be effective, it is likely that the species will remain resilient throughout its range in the future.

Therefore, we find that listing the Peaks of Otter salamander as an endangered species or threatened species under the Act is not warranted. A detailed discussion of the basis for this finding can be found in the Peaks of Otter salamander species assessment and other supporting documents (see ADDRESSES, above).

Redlips Darter

Previous Federal Actions

On April 20, 2010, we received a petition from the Center for Biological Diversity, Alabama Rivers Alliance, Clinch Coalition, Dogwood Alliance, Gulf Restoration Network, Tennessee Forests Council, and West Virginia Highlands Conservancy to list 404 aquatic, riparian, and wetland species, including the ashy darter (Etheostoma cinereum), as endangered or threatened species under the Act. On September 27, 2011, we published a 90-day finding in the Federal Register (76 FR 59836), concluding that the petition presented substantial information indicating that listing the ashy darter may be warranted. Since publication of the 90-day finding, the redlips darter was taxonomically split from the ashy darter species complex based on morphological and genetic differences. On April 4, 2019, we published a 12-month finding in the Federal Register (84 FR 13237), concluding that listing the ashy darter was not warranted. However, we found it appropriate to conduct a discretionary status review of the redlips darter to determine whether it warrants listing.

Summary of Finding

The redlips darter is a small (about 11 centimeters (4.5 inches) long), colorful freshwater fish. This species is endemic to the Cumberland River drainage and occurs in four of its tributary systems in Kentucky and Tennessee: The Obey River, South Fork Cumberland River, Buck Creek, and Rockcastle River. The redlips darter is found on or near the stream bottom, in clear pools or eddies of medium to large upland streams, with silt-free sand or gravel substrates interspersed with large cobble, boulders, and, often, stands of water willow. Males and females become sexually mature between 1 and 2 years of age. Spawning occurs annually, starting as early as January and ending in early April, with peak activity in mid-March. Aquatic macroinvertebrates, including midge larvae, burrowing mayfly larvae, and worms are the primary prey items of the redlips darter. The maximum reported age of individuals is 52 months.

We have carefully assessed the best scientific and commercial information available regarding the past, present, and future threats to the redlips darter, and we evaluated all relevant factors under the five listing factors, including any regulatory mechanisms and conservation measures addressing these stressors. The primary stressors affecting the species' biological status include water quality degradation from siltation and contaminants, and impoundments. In spite of water quality threats that have acted on the species historically and impoundments that have and will continue to limit connectivity between its populations, the redlips darter has expanded its range in each of the four river or stream systems it inhabits. In two of these systems, populations are composed of tens of thousands of individuals and have high resilience to environmental perturbations. Only one population currently has low resilience, although it is improving. Based on these population attributes, we found the species is not in danger of extinction currently or in the foreseeable future.

Therefore, we find that listing the redlips darter as endangered or threatened is not warranted. A detailed discussion of the basis for this finding can be found in the redlips darter species assessment form and other supporting documents (see ADDRESSES, above).

Scott Riffle Beetle

Previous Federal Actions

On September 20, 2013, we received a petition from WildEarth Guardians, requesting that the Scott riffle beetle be listed as an endangered or threatened species under the Act. On January 12, 2016, we published a 90-day finding in the Federal Register (81 FR 1368), concluding that the petition presented substantial information indicating that listing the Scott riffle beetle may be warranted. This notice constitutes our 12-month finding on the September 20, 2013, petition to list the Scott riffle beetle under the Act.

Summary of Finding

The Scott riffle beetle is a small, dark brown to black, aquatic beetle, 2.62 to 2.90 millimeters (0.10 to 0.11 inches) in length. The Scott riffle beetle occurs in only one known historical location at Historic Lake Scott State Park in Kansas. The beetle relies on the spring where it lives for consistent groundwater discharge; relatively shallow, unpolluted, oxygenated water; coarse substrate, such as medium sized rocks or broken concrete; an abundance of aquatic macrophytes, algae, and periphyton; and the availability of adjacent terrestrial habitat.

We have carefully assessed the best scientific and commercial information available regarding the past, present, and future threats to the Scott riffle beetle, and we evaluated all relevant factors under the five listing factors, including any regulatory mechanisms and conservation measures addressing these stressors. The primary stressors affecting the species' biological status include decreased groundwater flow related to regional water usage (which is also affected by drought due to climate change), water contamination, terrestrial invasive plant species, and loss of spring habitat. Our review found that, currently, the Scott riffle beetle has sufficient resiliency to withstand stochastic events. Also, as far as we know given past and recent survey efforts, there has been no known reduction in the species' redundancy or representation from historical conditions. The species and spring habitat itself are well protected from the effects of potential stochastic and catastrophic events because the spring has unique characteristics including its topographic location, elevation, geographic location within the aquifer, and direction of groundwater flow, which provide a high level of resilience to the biggest concern for the species: Diminished spring discharge and flow. In addition, the park surrounding the species and spring habitat are managed for their conservation by the State. Thus, the key habitat features the beetle relies on are currently present and will likely continue to be present in the foreseeable future.

Therefore, we find that listing the Scott riffle beetle as an endangered species or threatened species under the Act is not warranted. A detailed discussion of the basis for this finding can be found in the Scott riffle beetle species assessment and other supporting documents (see ADDRESSES, above).

Southern Hognose Snake

Previous Federal Actions

On July 11, 2012, we received a petition from the Center for Biological Diversity to list 53 species of reptiles and amphibians, including the southern hognose snake, as endangered or threatened species under the Act. On July 1, 2015, we published a 90-day finding in the Federal Register (80 FR 37568), concluding that the petition presented substantial information indicating that listing the southern hognose snake may be warranted. This notice constitutes our 12-month finding on the July 11, 2012, petition to list the southern hognose snake under the Act.

Summary of Finding

The southern hognose snake is the smallest of the hognose snakes and is associated with xeric (dry) longleaf pine savannah, flatwoods, and sandhills from southeastern North Carolina, South Carolina, Georgia, and Florida. The species occupies upland habitat with well-drained, sandy soils, characterized by pine-dominated or pine-oak woodland where the canopy is open with a grassy understory.

We have carefully assessed the best scientific and commercial information available regarding the past, present, and future threats to the southern hognose snake, and we evaluated all relevant factors under the five listing factors, including any regulatory mechanisms and conservation measures addressing these stressors. The primary stressor affecting the species' biological status is habitat loss due to fire suppression, timber harvesting, sea level rise, conversion of land to agriculture, and urbanization. We found that the species' resilience may be reduced into the future, primarily due to loss of high quality and quantity habitat. However, populations persist across much of the species' historical range and 70 percent are likely to remain on the landscape, demonstrating a fairly high level of resilience. In addition, the species has sufficient redundancy and representation with more than two populations in six of its nine representative units.

In the future, while the species is expected to decline and some populations are likely to become extirpated, the species is expected to retain viability with resilient populations across much of its current range. Despite loss of redundancy and representation across its current range, representation will remain relatively high with seven of nine representative units remaining occupied with multiple populations. Redundancy and representation will likely decline from current conditions; however, the southern hognose snake is expected to remain viable into the foreseeable future.

Therefore, we find that listing the southern hognose snake as an endangered species or threatened species under the Act is not warranted. A detailed discussion of the basis for this finding can be found in the southern hognose snake species assessment and other supporting documents (see ADDRESSES, above).

Yellow Anise Tree

Previous Federal Actions

On April 20, 2010, we received a petition from the Center for Biological Diversity, Alabama Rivers Alliance, Clinch Coalition, Dogwood Alliance, Gulf Restoration Network, Tennessee Forests Council, and West Virginia Highlands Conservancy to list 404 aquatic, riparian, and wetland species, including the yellow anise tree, as endangered or threatened species under the Act. On September 27, 2011, we published a 90-day finding in the Federal Register (76 FR 59836), concluding that the petition presented substantial information indicating that listing the yellow anise tree may be warranted. This notice constitutes our 12-month finding on the April 20, 2010, petition to list the yellow anise tree under the Act.

Summary of Finding

The yellow anise tree is a large, aromatic, perennial, evergreen shrub or a small tree that can reach up to 6 meters (20 feet) in height. It is a facultative wetland species found in spring-fed wetlands, seepage slopes or seepage streams, basin swamps, baygalls, bottomland forests, and hydric hammocks, from which they may extend to mesic hammocks, xeric hammocks, and wet or bottom flatwoods. The species is endemic to eastern Florida and occurs in three metapopulations.

We have carefully assessed the best scientific and commercial information available regarding the past, present, and future threats to the yellow anise tree, and we evaluated all relevant factors under the five listing factors, including any regulatory mechanisms and conservation measures addressing these stressors. The primary stressors affecting the species' biological status include habitat destruction, water use, over-harvest, and the effects of climate change, including increased temperatures, changes in precipitation patterns, increased hurricanes and storms, and sea level rise. Currently, there is little evidence that these stressors are limiting the growth and reproduction of the species, and populations have maintained moderate to high resiliency. In addition, the life history and adaptive capacity of the species allows it to persist during times of drought and wet conditions, as well as during hurricane and storm events. Although we project that changes in climate patterns and habitat destruction due to development will impact yellow anise tree populations over the next 50 years, we predict that these impacts will be minimal. Lastly, we anticipate the species will continue to maintain moderate to high resiliency populations that are distributed across the historical range of the species.

Therefore, we find that listing the yellow anise tree as an endangered species or threatened species under the Act is not warranted. A detailed discussion of the basis for this finding can be found in the yellow anise tree species assessment and other supporting documents (see ADDRESSES, above).

Yellow-Cedar

Previous Federal Actions

On June 24, 2014, we received a petition from the Center for Biological Diversity, The Boat Company, Greater Southeast Alaska Conservation Community, and Greenpeace to list yellow-cedar as an endangered or threatened species under the Act. On April 10, 2015, we published a 90-day finding in the Federal Register (80 FR 19259), concluding that the petition presented substantial information indicating yellow-cedar may warrant listing. This notice constitutes our 12-month finding on the June 24, 2014, petition to list yellow-cedar under the Act.

Summary of Finding

Yellow-cedar is a slow growing tree that can live 500 to 700 years with individuals documented up to 1,600 years old. Yellow-cedar has a moderately broad geographic range, extending from southern Alaska to northern California, and occupies a wide variety of ecological niches. It reaches its largest size on well-drained soils but can employ a strategy of slow, shrub-like growth on the fringes of bogs and other poorly drained soils where nutrient availability is low. Yellow-cedar reproduces sexually through seed and asexually through vegetative layering (rooting of branches that grow into independent clones), but regeneration through layering is more common.

We have carefully assessed the best scientific and commercial information available regarding the past, present, and future threats to the yellow-cedar, and we evaluated all relevant factors under the five listing factors, including any regulatory mechanisms and conservation measures addressing these stressors. The primary stressors affecting the species' biological status include the effects of climate change (including changes in temperature and precipitation patterns), timber harvest, fire, and herbivory. We found that yellow-cedar is experiencing a decline primarily caused by a changing climate in the core of its range; therefore, it has somewhat reduced resiliency. However, the area affected represents less than 6 percent of the species' range, and there are still high levels of representation and redundancy as demonstrated by its high levels of genetic diversity and wide distribution on the landscape, respectively. Despite impacts from effects of climate change, timber harvest, fire, and other stressors, the species is expected to persist in thousands of stands across its range, in a variety of ecological niches, with no predicted decrease in overall genetic diversity into the foreseeable future.

Therefore, we find that listing the yellow-cedar as an endangered species or threatened species under the Act is not warranted. A detailed discussion of the basis for this finding can be found in the yellow-cedar species assessment and other supporting documents (see ADDRESSES, above).

New Information

We request that you submit any new information concerning the taxonomy of, biology of, ecology of, status of, or stressors to the Berry Cave salamander, cobblestone tiger beetle, Florida clamshell orchid, longhead darter, Ocala vetch, Panamint alligator lizard, Peaks of Otter salamander, redlips darter, Scott riffle beetle, southern hognose snake, yellow anise tree, and yellow-cedar to the appropriate person, as specified under FOR FURTHER INFORMATION CONTACT, whenever it becomes available. New information will help us monitor these species and make appropriate decisions about their conservation and status. We encourage local agencies and stakeholders to continue cooperative monitoring and conservation efforts.

References Cited

Lists of the references cited in the petition findings are available on the internet at http://www.regulations.gov in the dockets provided above in ADDRESSES and upon request from the appropriate person, as specified under FOR FURTHER INFORMATION CONTACT.

Authors

The primary authors of this document are the staff members of the Species Assessment Team, Ecological Services Program.

Authority

The authority for this action is section 4 of the Endangered Species Act of 1973, as amended (16 U.S.C. 1531 et seq.).

Dated: September 16, 2019.
Margaret E. Everson,
Principal Deputy Director, U.S. Fish and Wildlife Service, Exercising the Authority of the Director, U.S. Fish and Wildlife Service.

[FR Doc. 2019-21605 Filed 10-4-19; 8:45 am]

BILLING CODE 4333-15-P